GULF COAST ECOSYSTEM RESTORATION COUNCIL

[Docket No.: 107162018-1111-03]

Notice of Proposed Subaward Under a Council-Selected Restoration Component Award

AGENCY: Gulf Coast Ecosystem Restoration Council.

ACTION: Notice.

SUMMARY: The Gulf Coast Ecosystem Restoration Council (RESTORE Council) publishes notice of proposed subawards from the Mississippi Department of Environmental Quality (MDEQ) to the Mississippi Wildlife Federation and the Partnership for Gulf Coast Land Conservation, two Mississippi nonprofit organizations, for the purpose of education and outreach in accordance with the Sea Grant Education and Outreach (EOE) Award, as approved in the Initial Funded Priority List.

FOR FURTHER INFORMATION CONTACT: Please send questions by email to joshua.easton@restorethegulf.gov.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Initial Funded Priority List, which is available on the Council's website at https://www.restorethegulf.gov/council-selected-restoration-component/funded-priorities-list, RESTORE Act funds in the amount of $750,000 will support the Sea Grant Education and Outreach (EOE) Award to MDEQ. As part of this project, MDEQ will provide a subaward in the amount of $84,150 to the Mississippi Wildlife Federation for enhancement of the Mississippi Habitat Stewards Program. Through the subaward, the Mississippi Wildlife Federation will expand an existing curriculum that relays the ecosystem benefits of upstream land conservation, habitat restoration and water quality restoration. The expanded curriculum will be offered for three different targeted audiences at different levels: Habitat steward volunteers; youth, ages 9-12; and local high school environmental clubs.

MDEQ will also provide a subaward in the amount of $99,050 to the Partnership for Gulf Coast Land Conservation (PGCLC). The PGCLC will conduct an outreach initiative that includes three components: The development of science-based communication products for use with a general audience that summarize and explain the benefits of land conservation in the Gulf coast region in lay terminology; field visits that bring together stakeholders to illustrate, in the field and by boat, the connectivity that land conservation practices along our coastal streams have to water quality in the northern Gulf of Mexico and to our marine and estuarine living resources; and the development of a short digital film that illustrates the connection between riparian and wetland forests and marine and estuarine living resources in the northern Gulf of Mexico.

Keala J. Hughes,
Director of External Affairs & Tribal Relations, Gulf Coast Ecosystem Restoration Council.

[FR Doc. 2018-15451 Filed 7-18-18; 8:45 am]

BILLING CODE 6560-58-P